ENVIRONMENTAL PROTECTION AGENCY

40 CFR Part 52

[IN99-1a; FRL-6573-7]

Approval and Promulgation of Implementation Plan; Indiana

AGENCY: Environmental Protection Agency (EPA).

ACTION: Direct final rule.

SUMMARY: EPA is approving revisions to particulate matter (PM) emissions regulations for Dubois County, Indiana, which the Indiana Department of Environmental Management (IDEM) submitted to EPA on February 3, 1999, as amendments to its State Implementation Plan (SIP). The revisions include relaxation of some PM limits, elimination of limits for boilers which are no longer operating, updating facility names, and changing some boiler fuel types.

DATES: This rule is effective on June 20, 2000, unless EPA receives adverse written comments by May 22, 2000. If adverse comment is received, EPA will publish a timely withdrawal of the rule in the Federal Register and inform the public that the rule will not take effect.

ADDRESSES: You should mail written comments to: J. Elmer Bortzer, Chief, Regulation Development Section, Air Programs Branch (AR-18J), U.S. Environmental Protection Agency, Region 5, 77 West Jackson Boulevard, Chicago, Illinois 60604.

You may inspect copies of the State submittal and EPA's analysis of it at: Regulation Development Section, Air Programs Branch (AR-18J), U.S. Environmental Protection Agency, Region 5, 77 West Jackson Boulevard, Chicago, Illinois 60604.

FOR FURTHER INFORMATION CONTACT: David Pohlman, Environmental Scientist, Regulation Development Section, Air Programs Branch (AR-18J), U.S. Environmental Protection Agency, Region 5, 77 West Jackson Boulevard, Chicago, Illinois 60604, (312) 886-3299.

SUPPLEMENTARY INFORMATION: Throughout this document wherever “we,” “us,” or “our” are used we mean EPA.

Table of Contents

I. What is the EPA Approving?

II. What Are the Changes From Current Rules?

A. Sources Eliminated From the Rules

B. Source Name Revisions

C. Fuel Usage and Heat Input Changes

D. Revised or Added Limits

III. Air Quality Modeling Analysis

IV. What Are the Environmental Effects of This Action?

V. EPA Rulemaking Action

VI. Administrative Requirements

A. Executive Order 12866

B. Executive Order 13045

C. Executive Order 13084

D. Executive Order 13132

E. Regulatory Flexibility

F. Unfunded Mandates

G. Submission to Congress and the Comptroller General

H. National Technology Transfer and Advancement Act

I. Petitions for Judicial Review

I. What Is the EPA Approving?

We are approving revised PM rules for Dubois County, Indiana, which the Indiana Department of Environmental Management (IDEM) submitted to EPA on February 3, 1999. The revisions include relaxation of some PM limits, elimination of limits for boilers which are no longer operating, updating facility names, and changing some boiler fuel types. The submitted revisions are contained in Title 326 Indiana Administrative Code, Article 6, Rule 1, Section 9 (326 IAC 6-1-9).

II. What Are the Changes From Current Rules?

A. Sources Eliminated From the Rules

IDEM eliminated Indiana Cabinet, Dolly Madison Plant No. 3, Jasper Table, Hoosier Desk, Jasper Turning boilers No. 1 and No. 2, Jasper Novelty Furniture Plant No. 1, Jasper Novelty Furniture Plant No. 2, Jasper Novelty Furniture Plant No. 3 wood boiler, Jasper Cabinet coal and wood boiler, and Jasper Veneer boiler No. 3 from rule 326 IAC 6-1-9. These sources have shut down.

B. Source Name Revisions

Indiana Chair is changed to Indiana Dimension; Indiana Desk is changed to Indiana Furniture Industries; Huntingburg Wood Products is changed to Styline Industries, Plant #8; Jasper Laminates is changed to Jasper Laminates, Plant #1—Division of Kimball; Jasper Cabinets No. 2 is changed to Jasper Cabinets Corporation; Jasper Stylemasters 15th and Cherry is changed to Artec; Jasper Office Furniture is changed to Jasper Office Furniture Co., Inc., Plant #1; Jasper Turning is changed to Artec; Jasper Novelty Furniture Plt. No. 3 is changed to Jasper Furniture 30th St.; and Jasper Cabinet is changed to Jasper Corp.-Kimball International.

C. Fuel Usage and Heat Input Changes

The fuel for Jasper Laminates, Plant #1—Division of Kimball boiler No. 1 is changed from Wood-Oil-Waste Solvent to Wood-Wood Waste, and its heat input is changed from 23 MMBTU/hr to 20.5 MMBTU/hr. The fuel for Jasper Laminates, Plant #1—Division of Kimball boiler No. 2 is changed from Oil to Natural Gas, and its heat input is changed from 16 MMBTU/hr to 16.8 MMBTU/hr. The fuel for Jasper Cabinets Corporation's boiler is changed from Coal to Wood, and the heat input is changed from 3 MMBTU/hr to 5.3 MMBTU/hr. The heat input for Jasper Wood Products' Coal-Wood Boiler No. 1 is changed from 10 MMBTU/hr to 6 MMBTU/hr. The heat input for Jasper Wood Products' Coal-Wood Boiler No. 2 is changed from 10 MMBTU/hr to 6 MMBTU/hr. The heat input for Artec's Wood Chip Boiler is changed from 24 MMBTU/hr to 14 MMBTU/hr. The fuel for Jasper Chair's boiler is changed from Coal to Wood, and its heat input is changed from 6 MMBTU/hr to 18 MMBTU/hr.

D. Revised or Added Limits

The limits for Styline Industries, Plant #8 are changed from 2.8 tons/yr to 9.0 tons/yr, and from 0.340 lbs/MMBTU to 0.60 lbs/MMBTU. The limits for Forest Wood Products No. 1 are changed from 2.1 tons/yr to 9.0 tons/yr, and from 0.140 lbs/MMBTU to 0.60 lbs/MMBTU. For Jasper Laminates, Plant #1—Division of Kimball, the short-term limit for boiler No. 1 was changed from 0.10 lbs/MMBTU to 0.60 lbs/MMBTU and the limits for boiler #2 were changed to add limits of 0.2 tons/yr and 0.01 grains/dscf in addition to the previously-existing limit of 0.003 lbs/MMBTU. For Jasper Cabinets Corporation, a new 6.7 MMBTU/hr Wood Boiler was added to the rule. This boiler has limits of 7.6 tons/yr and 0.60 lbs/MMBTU. The limits for Coal-Wood Boiler No. 1 at Jasper Wood Products were changed from 1.04 tons/yr to 9.0 tons/yr and from 0.060 lbs/MMBTU to 0.60 lbs/MMBTU. The limits for Coal-Wood Boiler No. 2 at Jasper Wood Products were changed from 3.1 tons/yr to 9.0 tons/yr and from 0.070 lbs/MMBTU to 0.60 lbs/MMBTU. Limits for Artec's Wood Chip Boiler were changed from 2.8 tons/yr to 12.0 tons/yr and from 0.060 lbs/MMBTU to 0.60 lbs/MMBTU.

III. Air Quality Modeling Analysis

The general criteria used by the EPA to evaluate such emissions trades, or “bubbles”, under the Clean Air Act and applicable regulations are set out in the EPA's Emissions Trading Policy Statement (ETPS) (see 51 FR 43814). Emissions trades such as this, which result in an overall increase in allowable emissions, require a “Level III” modeling analysis under the ETPS to ensure that the National Ambient Air Quality Standards (NAAQS) will be protected. A Level III analysis is a full dispersion modeling analysis which must consider all sources affecting the trade's area of impact.

The submitted modeling analysis includes emissions from all sources with revised SIP limits, and uses a conservative background concentration to account for other, nearby sources.

In the submitted modeling analysis, which uses 5 years of meteorological data, a violation of the 24-hour NAAQS is indicated when six exceedances of the 24-hour standard are predicted. Each receptor's predicted 6th highest 24-hour value is, therefore, compared to the standard. The 24-hour PM standard is 150 micrograms per cubic meter (μg/m³). Indiana's modeling indicated that the highest, sixth highest predicted 24-hour PM concentration at any receptor in the Dubois County area was 132.5 μg/m³. Thus, the modeling analysis predicts that the 24-hour NAAQS will be protected.

A modeled violation of the annual PM standard is indicated when any receptor's 5 year arithmetic mean annual PM concentration exceeds the annual PM standard of 50 μg/m³. Indiana's modeling analysis indicated that the highest arithmetic mean annual PM concentration predicted by the modeling for the Dubois County area was 33.6 μg/m³. Therefore, the modeling analysis predicts that the annual PM NAAQS will be met.

IV. What Are the Environmental Effects of This Action?

As stated above, the air quality modeling analysis conducted by IDEM shows that the maximum daily and annual PM concentrations in Dubois County should stay below the NAAQS.

V. EPA Rulemaking Action

We are approving, through direct final rulemaking, revisions to particulate matter (PM) emissions regulations for Dubois County, Indiana. We are publishing this action without prior proposal because we view this as a noncontroversial revision and anticipate no adverse comments. However, in a separate document in this Federal Register publication, we are proposing to approve the SIP revision should adverse written comments be filed. This action will be effective without further notice unless we receive relevant adverse written comment by May 22. 2000. Should we receive such comments, we will publish a final rule informing the public that this action will not take effect. Any parties interested in commenting on this action should do so at this time. If no such comments are received, you are advised that this action will be effective on June 20, 2000.

VI. Administrative Requirements

A. Executive Order 12866

The Office of Management and Budget (OMB) has exempted this regulatory action from Executive Order 12866, entitled “Regulatory Planning and Review.”

B. Executive Order 13045

Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

C. Executive Order 13084

Under Executive Order 13084, EPA may not issue a regulation that is not required by statute, that significantly affects or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments. This action does not involve or impose any requirements that affect Indian Tribes. Accordingly, the requirements of section 3(b) of Executive Order 13084 do not apply to this rule.

D. Executive Order 13132

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely approves a state rule implementing a federal standard, and does not alter the relationship or the distribution of power and responsibilities established in the Clean Air Act. Thus, the requirements of section 6 of the Executive Order do not apply to this rule.

E. Regulatory Flexibility

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities. Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

F. Unfunded Mandates

Under sections 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: rules of particular applicability; rules relating to agency management or personnel; and rules of agency organization, procedure, or practice that do not substantially affect the rights or obligations of non-agency parties. 5 U.S.C. 804(3). EPA is not required to submit a rule report regarding this action under section 801 because this is a rule of particular applicability.

H. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

I. Petitions for Judicial Review

Under section 307(b)(1) of the Clean Air Act, petitions for judicial review of this action must be filed in the United States Court of Appeals for the appropriate circuit by June 20, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Particulate matter, Reporting and recordkeeping requirements.

Dated: March 28, 2000.
Francis X. Lyons,
Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart P—Indiana

2. Section 52.770 is amended by adding paragraph (c)(132) to read as follows:

§ 52.770 Identification of plan.

* * * * *

(c) * * *

(132) On February 3, 1999, Indiana submitted revised particulate matter emissions regulations for Dubois County, Indiana. The submitted revision amends 326 IAC 6-1-9, and includes relaxation of some PM limits, the elimination of limits for boilers which are no longer operating, updated facility names, and changes to boiler fuel types.

(i) Incorporation by reference. Indiana Administrative Code Title 326: Air Pollution Control Board, Article 6: Particulate Rules, Rule 1: Nonattainment Area Limitations, Section 9: Dubois County. Added at 22 In. Reg. 423. Effective October 18, 1998.

[FR Doc. 00-9920 Filed 4-20-00; 8:45 am]

BILLING CODE 6560-50-P